DEPARTMENT OF HEALTH AND HUMAN SERVICES

Office of Inspector General

Program Exclusions: May 2005

AGENCY: Office of Inspector General, HHS.

ACTION: Notice of program exclusions.

During the month of May 2005, the HHS Office of Inspector General imposed exclusions in cases set forth below. When an exclusion is imposed, no program payment is made to anyone for any items or services (other than an emergency item or service not provided in a hospital emergency room) furnished, ordered or prescribed by an excluded party under the Medicare, Medicaid, and all Federal Health Care Programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name, address | Effective date
Program-Related Convictions
Adoff, Arnold | 6/20/2005
Valhalla, NY
Agett, Deborah | 6/20/2005
Kingsport, TN
Albanese, Anthony | 3/29/2005
Brooklyn, NY
Albarracin, Carlos | 6/20/2005
Palmdale, CA
Aloma, Filomena | 6/20/2005
Miami, FL
Alvarez, Jose | 6/20/2005
Miami, FL
Arenales, Anna | 6/20/2005
Hialeah, FL
ARS Professional Pharmacy, LTD | 6/20/2005
Monsey, NY
Barreda, Celina | 6/20/2005
Miami, FL
Beauchene, Tracey | 6/20/2005
Aberdeen, WA
Birotech Corporation | 6/20/2005
Tampa, FL
Bonett, Olga | 6/20/2005
Camden, NJ
Canning, Joyce | 6/20/2005
Sanford, ME
Chancy, Luke | 6/20/2005
Kelso, WA
Curbelo, Sue | 6/20/2005
Glendale, CA
Dean, Nancy | 6/20/2005
Danbury, CT
Depaula, Grisel | 6/20/2005
Miami, FL
Dubois, Marylin | 6/20/2005
Paradis, LA
Espinosa, Sara | 6/20/2005
Miami, FL
Gibbs, Debra | 6/20/2005
Fayetteville, NC
Gilley, Margaret | 6/20/2005
Ellsworth, ME
Gladkovister, Petr | 6/20/2005
Shorewood, WI
Goode, Constance | 6/20/2005
Essex Junction, VT
Hill, Stella | 6/20/2005
Sacramento, CA
Hines, Shelia | 6/20/2005
Enfield, NC
Hoover, Ronald | 6/20/2005
Manchester, KY
Howze, Andreco | 6/20/2005
Great Falls, SC
Ince, Karen | 6/20/2005
Hollis, NY
Joyner, Connie | 6/20/2005
Clinton, NC
Karapetyan, Margarita | 6/20/2005
Los Angeles, CA
Katherine, Scott | 6/20/2005
Minersville, PA
Kaufman, Brian | 6/20/2005
Honeoye Falls, NY
Leafa, Tina | 6/20/2005
Seatac, WA
Lennon, Dionne | 6/20/2005
Wadesboro, NC
Loveall, Amy | 6/20/2005
Fulton, NY
McCloskey, Debra | 6/20/2005
Schenectady, NY
Mora, Zoraida | 6/20/2005
Miami, FL
Morales-Montalvo, Carlos | 6/20/2005
San German, PR
Nemirovskaya, Viktoria | 6/20/2005
Cedarburg, WI
Nsekpong, Michael | 6/20/2005
Seagoville, TX
Pederson, Randi | 6/20/2005
Fargo, ND
Porter, Kevin | 6/20/2005
Shelby, NC
Purcell, Donald | 6/20/2005
Napa, CA
Rascoe, Jessica | 6/20/2005
Windsor, NC
Reardon, Gina | 6/20/2005
Cumming, GA
Reusche, Jane | 6/20/2005
Fort Myers, FL
Ricketts, Donna | 6/20/2005
Hendersonville, TN
Rivera-Iglesias, Jorge | 6/20/2005
Cabo Rojo, PR
Rivera-Iglesias, Wilson | 6/20/2005
Cabo Rojo, PR
Rodriguez-Sorrentini, Eric | 6/20/2005
Cabo Rojo, PR
Rodriquez-Sorrentini, Noel | 6/20/2005
Cabo Rojo, PR
Senquiz, Luz | 6/20/2005
Philadelphia, PA
Showell, Stephanie | 6/20/2005
Georgetown, DE
Stanley A Gorgol, D P M, Inc, Corp | 6/20/2005
Salem, NH
Symkowski, Yanina | 6/20/2005
Waukesha, WI
Taft, William | 6/20/2005
Cornelius, NC
Tatman, April | 6/20/2005
Thornville, OH
Taylor, Patricia | 6/20/2005
Wiggins, MS
Thomas-Hicks, Michelle | 6/20/2005
Taylor, MI
Thurn, Anita | 6/20/2005
Scott, LA
Thurn, Melvin | 6/20/2005
Breaux Bridge, LA
Uko, Ekong | 6/20/2005
Chatsworth, CA
Underwood, Paul | 6/20/2005
Charlotte, NC
Urbano-Jane, Gloria | 6/20/2005
Miami, FL
Vann, Hoeuth | 6/20/2005
Long Beach, CA
Warren, Constanza | 6/20/2005
Altamonte Springs, FL
Weir, Burnadett | 6/20/2005
Hollis, NY
Williams, Taranika | 6/20/2005
Minneapolis, MN
Wright, Carrie | 6/20/2005
Eden, NY
Felony Conviction for Health Care Fraud
Amato, Nicola | 6/20/2005
Flanders, NJ
Bass, Theresa | 6/20/2005
Imperial, MO
Cazel, Phillip | 6/20/2005
Newcastle, CA
Colon, Margaret | 6/20/2005
E Falmouth, MA
Crowder, Linda | 6/20/2005
Lancaster, CA
Duhon, Paula | 6/20/2005
Lancaster, TX
Farrell, Linda | 6/20/2005
Rochester, NY
Getz, Nicole | 6/20/2005
Clinton, OH
Greenleaf, Janice | 6/20/2005
N Wildwood, NJ
Korman, Julie | 6/20/2005
Hamilton, OH
Lamoreaux, Christopher | 6/20/2005
Lompoc, CA
Landa, Carlos | 6/20/2005
Napa, CA
Masterson, Pamela | 6/20/2005
Niles, OH
McCormick, Cynthia | 6/20/2005
Cambridge, OH
McCoy, Reginald | 6/20/2005
Edinburg, TX
Nguyen, Phu | 6/20/2005
San Jose, CA
Ruther Charlotte | 6/20/2005
West Milton, OH
Tsirulsky, Ilya | 6/20/2005
Los Angeles, CA
Wills, Cathy | 6/20/2005
Providence, RI
Felony Control Substance Conviction
Cockerille, Lawrence | 6/20/2005
Litchfield, OH
Cook, Stephanie | 6/20/2005
Checotah, OK
Dao, David | 6/20/2005
Elizabethtown, KY
Johnson, Russell | 6/20/2005
Chester, VA
Kenward, John | 6/20/2005
San Diego, TX
Martin, Katherine | 6/20/2005
Burlington, VT
Marzen, Matthew | 6/20/2005
Macungie, PA
McDowell, Jerri | 6/20/2005
Somerset, KY
Nesbitt, Aaron | 6/20/2005
Lawton, MI
Petersen, Penny | 6/20/2005
Denver, CO
Portales, Arturo | 6/20/2005
Manchester, KY
Rick, Roxanne | 6/20/2005
Alexandria, VA
Rudolph, Jeanette | 6/20/2005
Clinton, MO
Withington, Pamela | 6/20/2005
Flemington, NJ
Worcester, Keith | 6/20/2005
Stockton, CA
Patient Abuse/Neglect Convictions
Anderson, Lisa | 6/20/2005
Dallas, TX
Bah, Haja | 6/20/2005
Hyattsville, MD
Brasley, Michael | 6/20/2005
E Rochester, NY
Breakfield, Jimmy | 6/20/2005
Columbia, MS
Browder, Clarissa | 6/20/2005
Centreville, MS
Coleman, Charlotte | 6/20/2005
Columbia, MS
Friendship, Theodore | 6/20/2005
Baton Rouge, LA
Greaves, Yvette | 6/20/2005
Roxbury, MA
Johnson, Evelyn | 6/20/2005
Elizabeth City, NC
Kimmons, Regina | 6/20/2005
Holly Springs, MS
Kutscher, Laura | 6/20/2005
Pennellville, NY
Mathis, Jacqueline | 6/20/2005
Jackson, MS
Mitchell, Virginia | 6/20/2005
Carbon, IN
Moore, Pamela | 6/20/2005
Washington, NC
Mosley, Gloria | 6/20/2005
Oklahoma City, OK
Rippy, David | 6/20/2005
Wichita Falls, TX
Showell, Cora | 6/20/2005
Berlin, MD
Simmons, Tina | 6/20/2005
Buffalo, NY
Spomer, Kandise | 6/20/2005
Enid, OK
Tadlock, Amanda | 6/20/2005
Mapleton, IA
Wittscheck, Heather | 6/20/2005
Toledo, OH
Zabala, Wilfredo | 6/20/2005
Seattle, WA
Conviction for Health Care Fraud
Redman, Chelsea | 6/20/2005
Statesville, NC
Conviction—Obstruction of an Investigation
OPI Properties, INC | 2/11/2005
St Louis Park, MN
License Revocation/Suspension/Surrendered
Abarca, Cheryl | 6/20/2005
Newark, NJ
Alexander, Melissa | 6/20/2005
Clarksville, IN
Allen, Deanna | 6/20/2005
Kilgore, TX
Amato, Frank | 6/20/2005
Bellport, NY
Atkinson, Kristin | 6/20/2005
Winston-Salem, NC
Austin, Todd | 6/20/2005
Eaton, IN
Baguss, Loraine | 6/20/2005
Louisville, KY
Baker, Richard | 6/20/2005
Lima, OH
Barlow, Mary | 6/20/2005
Glendale, AZ
Bass, Jean | 6/20/2005
South Hero, VT
Batchan, Danette | 6/20/2005
Chandler, AZ
Baxter, Tabatha | 6/20/2005
Anniston, AL
Bohanon, Terri | 6/20/2005
San Jose, CA
Bolton, Pamela | 6/20/2005
Batesville, MS
Bonner, Julie | 6/20/2005
Houston, TX
Boswell, Andrea | 6/20/2005
New Bedford, MA
Brill, Mary | 6/20/2005
Philadelphia, PA
Brunson, Judith | 6/20/2005
Calusa, CA
Burquist, Tammy | 6/20/2005
Semmes, AL
Byrd, Dena | 6/20/2005
Lake Charles, LA
Byrd, John | 6/20/2005
Phoenix, AZ
Campbell, Shari | 6/20/2005
Antioch, CA
Camuti, Diane | 6/20/2005
Astoria, NY
Caraballo, Marcy | 6/20/2005
Pueblo, CO
Carper, Nancy | 6/20/2005
Sebring, FL
Carter, Roselyn | 6/20/2005
Providence, RI
Casimiro, Melissa | 6/20/2005
West Warwick, RI
Castorena, Kim | 6/20/2005
Brush, CO
Cedarwoods Day Spa, Inc | 6/20/2005
Pembroke Pines, FL
Champion, Mary | 6/20/2005
Egg Harbor TWP, NJ
Chaney, Mary | 6/20/2005
Fort Wayne, IN
Christon, Shannon | 6/20/2005
Fresno, CA
Cinsavich, Scott | 6/20/2005
Westford, MA
Cline, Sarah | 6/20/2005
Puyallup, WA
Cloys, Donald | 6/20/2005
Richmond, KY
Clyburn, Vickie | 6/20/2005
Loxley, AL
Collymore, Kerri | 6/20/2005
Houston, TX
Colon, Karen | 6/20/2005
Toms River, NJ
Craig, Donna | 6/20/2005
Noblesville, IN
Crudale, Ann | 6/20/2005
Warwick, RI
Cupolo, Stacy | 6/20/2005
Lakewood, NJ
Currier-Hill, Theresa | 6/20/2005
Delta, OH
Danieli, Alexis | 6/20/2005
Tiverton, RI
Daniels, Jennifer | 6/20/2005
Syracuse, NY
Davidson, Jean | 6/20/2005
Lutz, FL
Dean, Elizabeth | 6/20/2005
Satellite Beach, FL
Demara, Toni | 6/20/2005
El Monte, CA
Dinovo, Linda | 6/20/2005
Largo, FL
Downes, Dennis | 6/20/2005
McKeesport, PA
Duff, Charlette | 6/20/2005
Bruce, MS
Dunn, Deborah | 6/20/2005
Louisville, KY
Eddy, Vickie | 6/20/2005
High Point, NC
Elder, Lisa | 6/20/2005
Pittsburgh, PA
Eyler, Kelley | 6/20/2005
Churubusco, IN
Fennell, Leslie | 6/20/2005
Port St Lucie, FL
Fenzel, Carl | 6/20/2005
Goodyear, AZ
Fhrye, Karen | 6/20/2005
Sacramento, CA
Fletcher, Constance | 6/20/2005
Enosburg Falls, VT
Fritts, Larry | 6/20/2005
Phillipsburg, NJ
Fuster, David | 6/20/2005
Bethesda, MD
Gagnon, Kimberly | 6/20/2005
Woonsocket, RI
Garcia, Marcy | 6/20/2005
Avenal, CA
Gardner, Charlotta | 6/20/2005
Jackson, MS
Godwin, Carla | 6/20/2005
Dothan, AL
Goodie, James | 6/20/2005
Mount Vernon, NY
Grim, Donald | 6/20/2005
Peshastin, WA
Groothand, Kimberly | 6/20/2005
Sanford, ME
Guttman, Dennis | 6/20/2005
Gainesville, FL
Hall, John | 6/20/2005
Cornelius, NC
Hart, Kimberly | 6/20/2005
Lodi, CA
Hatten, Candace | 6/20/2005
Lone Star, TX
Hayes-Bolster, Lori | 6/20/2005
Chicago, IL
Hendrickson, Molly | 6/20/2005
Morganfield, KY
Henry, Andrea | 6/20/2005
Marrero, LA
Herron, Jerry | 6/20/2005
Murfreesboro, TN
Herschel, Layne | 6/20/2005
Chester, VT
Hodges, Donna | 6/20/2005
Rancho Cordova, CA
Howerton, Cynthia | 6/20/2005
Saucier, MS
Hu, Ming | 6/20/2005
Baldwin Park, CA
Hubbard, Russelle | 6/20/2005
Alabaster, AL
Hursh, Susan | 6/20/2005
Fort Wayne, IN
Johanson, Leeann | 6/20/2005
Draper, UT
Johnson, Sarah | 6/20/2005
Riverside, CA
Jones, Janet | 6/20/2005
Fort Collins, CO
Jones, Joy | 6/20/2005
Lawrenceville, GA
Jones, Luella | 6/20/2005
Richmond, KY
Kantola, Jeffrey | 6/20/2005
Tacoma, WA
Keegan, Barbara | 6/20/2005
North Cape May, NJ
Keeton, Heather | 6/20/2005
Willows, CA
Kelly, Sherry | 6/20/2005
Philadelphia, PA
Kent, Kim | 6/20/2005
Huntington, WV
Knowles, Abbey | 6/20/2005
Orlando, FL
Koeller, Bambi | 6/20/2005
Midvale, UT
Kolinsky, Carol | 6/20/2005
Berlin, NH
Land, Cindy | 6/20/2005
Claremore, OK
Landry, Danielle | 6/20/2005
West Warwick, RI
Laughlin, Lee | 6/20/2005
Brandon, VT
Lehman, Lori | 6/20/2005
Nine Mile Falls, WA
Lesieur, Sandra | 6/20/2005
Grover, NC
Lewis, Cassandra | 6/20/2005
Nicholasville, KY
Lewis, Jeanette | 6/20/2005
Elizabethton, TN
Lindquist, Beth | 6/20/2005
Greencastle, IN
Logan, Michael | 6/20/2005
Palmdale, CA
Luque, Vita | 6/20/2005
Griffith, IN
Maack, Don | 6/20/2005
W Fargo, ND
Macavoy, Sonia | 6/20/2005
Port St Lucie, FL
MaLear, Jeremy | 6/20/2005
Hemet, CA
Marcotte, Julie | 6/20/2005
Phoenix, AZ
Martin, Thomas | 6/20/2005
St Petersburg, FL
Mauiri, Sandy | 6/20/2005
Totowa, NJ
McArthur, Teri | 6/20/2005
Pueblo West, CO
McDonald, Mary | 6/20/2005
Vacaville, CA
McGinnis, Susan | 6/20/2005
Leesburg, OH
McKinney, Sheila | 6/20/2005
Oakland, MS
McLain, Jennifer | 6/20/2005
Oklahoma City, OK
Medley, Ginger | 6/20/2005
Winchester, KY
Meza, Patricia | 6/20/2005
Orosi, CA
Michaelis, David | 6/20/2005
Paso Robles, CA
Mills, Jane | 6/20/2005
Mt Vernon, KY
Miranda, Rose | 6/20/2005
Tucson, AZ
Moran, Finn | 6/20/2005
Webster, MA
Mullen, Priscilla | 6/20/2005
Mesa, AZ
Navas, Jennifer | 6/20/2005
Jacksonville, FL
Niemiec, June | 6/20/2005
Littleton, NH
Norwood, Elizabeth | 6/20/2005
Atmore, AL
Perry, Marc | 6/20/2005
Addison, IL
Peters, Janice | 6/20/2005
Marshalltown, IA
Petillo, Larry | 6/20/2005
Coeur d‘ Alene, ID
Pleat, Donna | 6/20/2005
Sunrise, FL
Quidgeon, Maureen | 6/20/2005
Thomaston, CT
Quinn, Eamonn | 6/20/2005
Ft Lauderdale, FL
Rabon, Judy | 6/20/2005
Rembert, SC
Remmers, Janice | 6/20/2005
Mooresville, IN
Richardson, Katherine | 6/20/2005
Gary, IN
Riggs, Dezirae | 6/20/2005
Madison, IN
Rivera, Mary | 6/20/2005
Las Animas, CO
Robertson, Blythe | 6/20/2005
Paisley, FL
Romanauskas, Vincent | 6/20/2005
Harrisburg, PA
Rose, Rebecca | 6/20/2005
Leitchfield, KY
Rothwell, Frances | 6/20/2005
Palm Bay, FL
Roy, Leona | 6/20/2005
Port St Lucie, FL
Rudd, Carol | 6/20/2005
Orlando, FL
Sanderson, Lynn | 6/20/2005
Trenton, NJ
Schoening, Linda | 6/20/2005
Winston-Salem, NC
Scott, Jason | 6/20/2005
Calvert City, KY
Shatzer, Bonnie | 6/20/2005
Westminster, MD
Shelton, Joshua | 6/20/2005
Richland, WA
Sheperd, Anne | 6/20/2005
Ashland, KY
Shiraldi,Teresa | 6/20/2005
Abingdon, MD
Siddall, Donley | 6/20/2005
Collegedale, TN
Skowron, Tadeusz | 6/20/2005
Avon, CT
Smargiassi, Suzanne | 6/20/2005
Leesburg, FL
Smith-Moore, Tonya | 6/20/2005
Omaha, IL
Stachkunas, Matthew | 6/20/2005
Bristol, CT
Stevenson, Cathy | 6/20/2005
Mancos, CO
Stone, Tammy | 6/20/2005
Pawtucket, RI
Sullivan, Jackie | 6/20/2005
Orlando, FL
Sullivan, Janice | 6/20/2005
Stockton, CA
Swicegood, Joseph | 6/20/2005
Louisville, TN
Tambo, Brenda | 6/20/2005
Los Osos, CA
Tate, Larry | 6/20/2005
Phoenix, AZ
Thervil, Yolette | 6/20/2005
Miami, FL
Thurber, Pauline | 6/20/2005
Lakewood, CO
Tidd, Miles | 6/20/2005
Trenton, NJ
Tiscornia, Kimberly | 6/20/2005
W Milford, NJ
Tofflemire, Andrew | 6/20/2005
San Francisco, CA
Trentacosta, Gregory | 6/20/2005
Wayne, NJ
Trombley, Laurie | 6/20/2005
Bradford, VT
Vaughn-Bey, David | 6/20/2005
Colorado Springs, CO
Vitols, Britt | 6/20/2005
Essex Junction, VT
Wells, Larry | 6/20/2005
Louisville, KY
Wheat, Patricia | 6/20/2005
Louisville, KY
Wheeler, Marsha | 6/20/2005
Chesire, CT
White, Jeannie | 6/20/2005
Fresno, CA
Wilburn, Robert | 6/20/2005
North Point, FL
Williamson, Christina | 6/20/2005
Chewelah, WA
Willie, Dennis | 6/20/2005
Salt Lake City, UT
Wimmer, Jan | 6/20/2005
Providence, RI
Wood, Kristy | 6/20/2005
Hopbottom, PA
Yancey, Dawn | 6/20/2005
Yerington, NV
Yrigoyen, Florence | 6/20/2005
Denver, CO
Zink, Tricia | 6/20/2005
Mt Vernon, IN
Fraud/Kickbacks/Prohibited Acts/Settlement Agreements
Ahmad, Vimlesh | 10/5/2004
Seattle, WA
Day, Floyd | 3/7/2005
Portland, OR
Owned/Controlled By Convicted Entities
Amgu, Inc | 6/20/2005
McKinney, TX
Health & Wellness Medical Clinic, Inc | 6/20/2005
Los Angeles, CA
Southern California Respiratory Care Services | 6/20/2005
Long Beach, CA
Default on Heal Loan
Bayles, Jay | 6/20/2005
Westlake Village, CA
Duong, Chau | 6/20/2005
Brooklyn, NY
Mohammadkhani, Alireza | 6/20/2005
Chatsworth, CA
Owners of Excluded Entities
Edoho-Ukwa, Grace | 6/20/2005
McKinney, TX
Greer, Leta | 6/20/2005
St. Louis, MO

Dated: June 1, 2005.
Katherine B. Petrowski,
Director, Exclusions Staff, Office of Inspector General.

[FR Doc. 05-12693 Filed 7-1-05; 8:45 am]

BILLING CODE 4152-01-M